COMMISSION ON CIVIL RIGHTS

Notice of Public Meeting of the Kentucky Advisory Committee; Correction

AGENCY: Commission on Civil Rights.

ACTION: Notice; revision to meeting registration.

SUMMARY: The Commission on Civil Rights published a notice in the Federal Register on Wednesday, October 20, 2021, concerning a meeting of the Kentucky Advisory Committee. The document contained the incorrect registration link.

FOR FURTHER INFORMATION CONTACT: Liliana Schiller, lschiller@usccr.gov.

Correction: In the Federal Register on Wednesday, October 20, 2021, in FR Document Number 2021-22871, on page 58057, first column, correct the registration link to: https://tinyurl.com/3jsufwfe.

Dated: November 17, 2021.
David Mussatt,
Supervisory Chief, Regional Programs Unit.

[FR Doc. 2021-25442 Filed 11-19-21; 8:45 am]

BILLING CODE P